DEPARTMENT OF COMMERCE

National Oceanic and Atmospheric Administration

[I.D. 010702B]

Proposed Information Collection; Comment Request; NMFS Alaska Region Vessel Monitoring System (VMS) Program

AGENCY: National Marine Fisheries Service (NMFS), National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before March 12, 2002.

ADDRESSES: Direct all written comments to Madeleine Clayton, Departmental Paperwork Clearance Officer, Department of Commerce, Room 6086, 14th and Constitution Avenue NW, Washington DC 20230 (or via the Internet at MClayton@doc.gov).

FOR FURTHER INFORMATION CONTACT: Requests for additional information or copies of the information collection instrument(s) and instructions should be directed to Patsy A. Bearden, F/AKR2, P.O. Box 21668, Juneau, AK 99802-1668 (telephone 907-586-7008).

SUPPLEMENTARY INFORMATION:

I. Abstract

As required in the reasonable and prudent measures in the Endangered Species Act, Section 7 biological opinion on the effects of the Bering Sea and Aleutian Islands and Gulf of Alaska pollock, Atka mackerel, and Pacific cod fisheries on the endangered Steller sea lions, National Marine Fisheries Service (NMFS) has implemented changes to information collected from fishery participants. Any vessel that is registered for directed fishing for Pacific cod, pollock, and Atka mackerel in the exclusive economic zone off Alaska must install a vessel monitoring system (VMS) unit and operate the VMS while directed fishing for each of the species. The VMS unit automatically transmits location information every 20 minutes. NOAA uses the information for determining vessel locations and enforcing the closure of areas of critical habitat. Participants must also fax NOAA a check-in report when a VMS unit has been installed.

II. Method of Collection

The position reports are electronic and automatic. Check-in reports must be faxed.

III. Data

OMB Number: 0648-0445.

Form Number: None.

Type of Review: Regular submission.

Estimated Number of Respondents: 539.

Affected Public: Business or other for-profit organizations.

Estimated Time Per Response: 6 hours to install a VMS, 4 hours per year to maintain a VMS, 5 seconds for an automated position report, and 12 minutes to fax a check-in report.

Estimated Total Annual Burden Hours: 13,044.

Estimated Total Annual Cost to Public: $811,000.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 4, 2002.
Gwellnar Banks,
Management Analyst, Office of the Chief Information Officer.

[FR Doc. 02-782 Filed 1-10-02; 8:45 am]

BILLING CODE 3510-22-S